DEPARTMENT OF TRANSPORTATION

Federal Motor Carrier Safety Administration

[Docket No. FMCSA-2006-26367]

Motor Carrier Safety Advisory Committee Public Meeting

AGENCY: Federal Motor Carrier Safety Administration (FMCSA), DOT.

ACTION: Notice of Motor Carrier Safety Advisory Committee meeting, amendment.

SUMMARY: FMCSA announces an amendment to its May 5, 2009, notice regarding the May meeting of the Motor Carrier Safety Advisory Committee (MCSAC). The public session scheduled for May 18, from 10 a.m.-11 a.m. will be combined with the public session scheduled on May 20 from 1 p.m. to 4 p.m.

DATES: The MCSAC will hold a public session on Wednesday, May 20, 2009, from 1 p.m. to 4 p.m. (EDT).

FOR FURTHER INFORMATION CONTACT: Mr. Jeffrey K. Miller, Chief, Strategic Planning and Program Evaluation Division, Office of Policy Plans and Regulation, Federal Motor Carrier Safety Administration, U.S. Department of Transportation, 1200 New Jersey Avenue, SE., Washington, DC 20590, (202) 366-5730, mcsac@dot.gov.

Background

On May 5, 2009, FMCSA announced that its MCSAC will hold a public meeting via teleconference on May 18, 2009, from 10 a.m.-11 a.m. The notice also announced that FMCSA's MCSAC will hold a public meeting on Wednesday, May 20, 2009, from 1 p.m.-4 p.m. at the U.S. Department of Transportation, Media Center, West Building, Ground Floor, 1200 New Jersey Avenue, SE., Washington, DC 20590. The public meeting scheduled for May 18 is being combined with the public session scheduled for May 20. The May 20 session will now be used to allow all interested parties to listen to the MCSAC members discuss all topics for which the committee will provide recommendations to FMCSA during its May meeting.

The Committee will allocate one hour for public comments on May 20, 2009, from 3 p.m. to 4 p.m. Individuals wishing to address the committee should send an e-mail to mcsac@dot.gov by May 13, 2009. The time available will be divided among those who have signed up to address the committee with no one being allotted more than 15 minutes. For a copy of the agenda, please send an e-mail to mcsac@dot.gov.

Should you wish to attend the meeting on May 20, 2009, please e-mail mcsac@dot.gov by May 15, 2009, to facilitate the pre-clearance security process and expedite entry into the building. For information on facilities or services for individuals with disabilities or to request special assistance at the meeting, please e-mail mcsac@dot.gov by May 15, 2009.

Issued on: May 8, 2009.
Larry W. Minor,
Associate Administrator for Policy and Program Development.

[FR Doc. E9-11177 Filed 5-12-09; 8:45 am]

BILLING CODE 4910-EX-P